ENVIRONMENTAL PROTECTION AGENCY

40 CFR Part 262

[EPA-R01-RCRA-2006-0391; FRL-8186-2]

Extension of Site-Specific Regulations for University Laboratories XL Project

AGENCY: Environmental Protection Agency (EPA).

ACTION: Proposed rule.

SUMMARY: The Environmental Protection Agency (EPA) is proposing to extend the expiration date of the New England University Laboratories XL Project (Labs XL Project) rule that EPA previously promulgated under the eXcellence and Leadership program (Project XL), allowing laboratories at certain universities in Massachusetts and Vermont to follow certain alternative RCRA generator requirements. In this action, EPA proposes to extend the expiration date from September 30, 2006 to April 15, 2009.

DATES: Written comments must be received by July 21, 2006.

ADDRESSES: Submit your comments, identified by Docket ID No. EPA-R01-RCRA-2006-0391, by one of the following methods:

• www.regulations.gov: Follow the on-line instructions for submitting comments.

• E-mail: biscaia.robin@epa.gov.

• Fax: to the attention of Robin Biscaia, (617) 918-0642.

• Mail: Robin Biscaia, Hazardous Waste Unit, Office of Ecosystems Protection, EPA Region I, One Congress Street, Suite 1100, Mail Code: CHW, Boston, MA 02114-2023.

• Hand Delivery: Robin Biscaia, Hazardous Waste Unit, Office of Ecosystems Protection, EPA Region I, One Congress Street, Suite 1100, Mail Code: CHW, Boston, MA 02114. Such deliveries are only accepted during the EPA's normal hours of operation, and special arrangements should be made for deliveries of boxed information.

Instructions: Direct your comments to Docket ID No. EPA-R01-RCRA-2006-0391. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: EPA has established a docket for this action under Docket ID No. EPA-R01-RCRA-2006-0391. All documents in the docket are listed on the www.regulations.gov Web site. Although listed in the index, some information may not be publicly available, e.g., CBI or other information whose disclosure is restricted by statute. Certain other material, such as copyrighted material, is not placed on the Internet and will be publicly available only in hard copy form. Publicly available docket materials are available either electronically through www.regulations.gov or in hard copy at the EPA New England Library, One Congress Street—11th Floor, Boston, MA 02114-2023, business hours Monday through Thursday 10 a.m. to 3 p.m., telephone: (617) 918-1990. Records in these dockets are available for inspection and copying during normal business hours.

FOR FURTHER INFORMATION CONTACT: Robin Biscaia, Hazardous Waste Unit, EPA Region I, One Congress Street, Suite 1100 (CHW), Boston, MA 02114-2023, telephone: (617) 918-1642, e-mail: biscaia.robin@epa.gov.

SUPPLEMENTARY INFORMATION: In the “Rules and Regulations” section of this Federal Register, EPA is taking direct final action on the proposed extension of the expiration date for the Labs XL, because EPA views the extension as non-controversial, and anticipates no adverse comments. EPA has explained its reasons for the proposed extension in the preamble to the direct final rule.

If EPA receives no adverse comments, the direct final rule will take effect and the EPA will take no further action on this proposed rule. If EPA receives adverse comments, EPA will withdraw the direct final rule, by publishing a timely withdrawal in the Federal Register indicating that the direct final rule is being withdrawn. If the direct final rule is withdrawn, comments will be addressed in a subsequent final rule based on this proposed rule. EPA may not institute a second comment period on the subsequent final rule. Any parties interested in commenting should do so at this time.

For additional information, please see the direct final rule in the “Rules and Regulations” section of this Federal Register.

Dated: June 12, 2006.
Robert W. Varney,
Regional Administrator, EPA New England.

[FR Doc. E6-9753 Filed 6-20-06; 8:45 am]

BILLING CODE 6560-50-P